DEPARTMENT OF TRANSPORTATION

Coast Guard

[USCG-2002-13133]

Great Lakes Pilotage Advisory Committee

AGENCY: Coast Guard, DOT.

ACTION: Notice of meetings.

SUMMARY: The Great Lakes Pilotage Advisory Committee (GLPAC) and its Subcommittee on Technology will meet to discuss various issues relating to pilotage on the Great Lakes. The meeting will be open to the public.

DATES: The Subcommittee will meet on Friday, September 6, 2002, from 8 a.m. to 11 a.m. GLPAC will meet on Friday, September 6, 2002, from 12 (noon) to 3:30 p.m. The meeting may close early if all business is finished. Written material and requests to make oral presentations should reach the Coast Guard on or before September 3, 2002. Requests to have a copy of your material distributed to each member of the committee should reach the Coast Guard on or before August 30, 2002.

ADDRESSES: GLPAC will meet at the St. Lawrence Hotel, Corner Main and West Orvis Street, Massena, NY 13662. Send written material and requests to make oral presentations to Margie Hegy, Commandant (G-MW), U.S. Coast Guard Headquarters, 2100 Second Street SW., Washington, DC 20593-0001. This notice is available on the Internet at http://dms.dot.gov.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2.

Agenda of Meetings

Subcommittee on Technology. The agenda includes the following:

(1) Presentation of Portable Piloting Units used by the Canadian pilots.

(2) Assessment of technology needs of U.S. pilots on the U.S. Great Lakes.

Great Lakes Pilotage Advisory Committee (GLPAC). The agenda includes the following:

(1) Update on Bridge Hour Study.

(2) Update on Pilotage Office Relocation Study.

(3) Progress report from Technology Subcommittee.

(4) Pilot attrition.

(5) Proposed AIS Carriage Requirement.

(6) GLPAC priorities—issues.

(7) Frequency of meetings.

The GLPAC meetings follow a public meeting on a bridge hour study being conducted on Great Lakes pilotage. This meeting will held on September 5, 2002, from 4 p.m. to 7 p.m. at the same location and will be formally announced in a future issue of the Federal Register.

Procedural

The meetings are open to the public. Please note that the meetings may close early if all business is finished. At the Chair's discretion, members of the public may make oral presentations during the meeting. If you would like to make an oral presentation at the meeting, please notify the Executive Director no later than September 3, 2002. Written material for distribution at the meeting should reach the Coast Guard no later than September 3, 2002. If you would like a copy of your material distributed to each member of the committee in advance of the meeting, please submit 10 copies to Margie Hegy at the address in the ADDRESSES section no later than August 30, 2002.

Information on Services for Individuals With Disabilities

For information on facilities or services for individuals with disabilities or to request special assistance at the meeting, contact the Executive Director as soon as possible.

Dated: August 14, 2002.
Joseph J. Angelo,
Acting Assistant Commandant Marine Safety, Security and Environmental Protection.

[FR Doc. 02-21131 Filed 8-19-02; 8:45 am]

BILLING CODE 4910-15-P